DEPARTMENT OF EDUCATION

Office of Special Education and Rehabilitative Services; List of Correspondence

AGENCY: Department of Education.

ACTION: List of Correspondence from January 2, 2005 through March 31, 2005.

SUMMARY: The Secretary is publishing the following list pursuant to section 607(d) of the Individuals with Disabilities Education Act, as amended (IDEA). Under section 607(d) of the IDEA, the Secretary is required, on a quarterly basis, to publish in the Federal Register a list of correspondence from the Department of Education received by individuals during the previous quarter that describes the interpretations of the Department of Education (Department) of the IDEA or the regulations that implement the IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from January 2, 2005 through March 31, 2005.

Included on the list are those letters that contain interpretations of the requirements of the IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate. Pursuant to the effective dates set forth in section 302 of the Individuals with Disabilities Education Improvement Act of 2004 (the Act), which amended and reauthorized the IDEA, the changes in IDEA that were made by the Act, with certain enumerated exceptions, will take effect on July 1, 2005. Accordingly, statutory citations in this list, as well as those contained in the letters referenced in this list, refer to the provisions of the IDEA that were in effect at the time the letters were issued.

Part B—Assistance for Education of All Children With Disabilities

Section 611—Authorization; Allotment; Use of Funds; Authorization of Appropriations

Topic Addressed: Distribution of Funds

○ Office of Special Education Programs memorandum 05-07 dated March 9, 2005, regarding implementation of the funding formula under the IDEA, specifically the year of age cohorts for which a free appropriate public education (FAPE) is ensured.

Section 612—State Eligibility

Topic Addressed: Free Appropriate Public Education

○ Office of Special Education Programs memorandum 05-08 dated March 17, 2005, regarding the responsibilities under Part B of IDEA of State and local educational agencies and other public agencies in providing for the education of children with disabilities placed in or referred to private residential programs.

Topic Addressed: Confidentiality of Education Records

○ Letter dated March 3, 2005 to Austin Independent School District Superintendent Dr. Pascal D. Forgione, Jr. from Family Policy Compliance Office Director LeRoy S. Rooker, regarding provisions of the Family Educational Rights and Privacy Act relating to the designation of directory information and clarifying when parent consent is required for the disclosure to third parties of directory information on students with disabilities receiving services under IDEA.

Topic Addressed: Children In Private Schools

○ Letter dated February 17, 2005 to Maine Department of Education Office of Special Services Director David Noble Stockford, regarding the responsibility of Maine and its public agencies to ensure that FAPE is made available to students with disabilities who attend private schools because they reside in school districts that do not operate public high schools, and clarifying that IDEA gives Maine and its public agencies no authority to regulate private schools.

Section 614—Evaluations, Eligibility Determinations, Individualized Education Programs, and Educational Placements

Topic Addressed: Individualized Education Programs

○ Letter dated February 28, 2005 to Massachusetts Advocate Kristen Serwecki, regarding the role of a parent who is the subject of a protective order in the individualized education program (IEP) process, including whether a parent representative can attend an IEP meeting as a member of the IEP team in this circumstance.

Section 615—Procedural Safeguards

Topic Addressed: Manifestation Determination Review

○ Letter dated March 18, 2005 to individual (personally identifiable information redacted), regarding the requirements of Part B of IDEA for conducting a manifestation determination review for children with disabilities in disciplinary situations.

Other Letters That Do Not Interpret the Idea but May Be of Interest to Readers

Topic Addressed: Extension of Liquidation Periods for Grantees Under State Administered Programs

○ Memorandum dated January 28, 2005 to Chief State School Officers, regarding guidance on general standards for evaluating requests to the Department for extensions of the 90-day liquidation period for obligating Federal funds and a process for handling these requests.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: June 15, 2005.
John H. Hager,
Assistant Secretary for Special Education and Rehabilitative Services.

[FR Doc. 05-12228 Filed 6-20-05; 8:45 am]

BILLING CODE 4000-01-P